DEPARTMENT OF LABOR

Employment and Training Administration

Notice of Renewal of the Advisory Committee on Apprenticeship (ACA) Charter

AGENCY: Employment and Training Administration, Labor.

ACTION: Renewal of the Advisory Committee on Apprenticeship (ACA) Charter.

SUMMARY: Notice is hereby given that after consultation with the General Services Administration, it has been determined that the renewal of a national advisory committee on apprenticeship is necessary and in the public interest. Accordingly, the U.S. Department of Labor, Employment and Training Administration has renewed the Advisory Committee on Apprenticeship (ACA) Charter with several minor revisions. The revisions are not intended to change the purpose or the Committee's original intent. The revisions are intended as a routine updating to align with the Department's strategic goals and existing procedures.

SUPPLEMENTARY INFORMATION:

Background

The current ACA charter expires March 2, 2007. The ACA's charter is required to be renewed every two years from the date of the Secretary of Labor's signature. During the renewal process several revisions were made to align the charter with the Department's strategic goals and existing procedures. These proposed revisions were not intended to change the purpose or the Committee's original intent. The revisions were intended as a routine updating to align with the Department's goals and procedures. The revisions are found in the following five sections of the charter: Objectives and the Scope, Membership, official name change for the Office of Apprenticeship, Panel of Experts, and the Annual Operating Cost.

Summary of Revisions

• The objectives were slightly modified to ensure that they are aligned with the Department's Strategic Goals.

• The membership was altered slightly to make official the long standing practice of inviting the current President of the National Association of State and Territorial Apprenticeship Directors (NASTAD) and the National Association of Government Labor Officials (NAGLO) to represent his or her respective organization on the Committee.

• All appropriate entries were modified to reflect the name change from the Office of Apprenticeship Training, Employer and Labor Services (OATELS) to the Office of Apprenticeship (OA).

• The current ACA recommended the U.S. Department of Agriculture be added to the Panel of Experts. The charter states that the Secretary can establish a non-voting Panel of Experts consisting of representatives from a variety of Departments to assist the Committee in carrying out its responsibilities.

• The budget was increased from $220,000 to $250,000 to accommodate the cost of providing logistical and conference support for the annual ACA meetings, and key regulatory workgroup meetings.

The ACA provides advice and recommendations to the Secretary of Labor in four key areas:

(1) In the development and implementation of policies, legislation and regulations affecting the National Apprenticeship System;

(2) On the preparation of the American workforce for sustained employment through employment and training programs for new and incumbent workers, as well as quality economic and labor market information;

(3) On measures that will foster quality work places that are safe, healthy, and fair;

(4) On strategies to meet the competitive labor demands of a global economy, as well as the development of workforce systems that assist workers and employers in meeting the challenges of global competition.

The Committee is composed of approximately 30 individuals appointed by the Secretary. The membership of the Committee shall include equal representation of employers, labor organizations, and the public sectors. NASTAD and NAGLO will both be represented by their current President on the public group of the Committee. Since the term for the NASTAD and the NAGLO presidency may not coincide with the ACA's two-year term, as the presidency changes, so will the representatives from these respective organizations. The Secretary shall appoint one of the public members as Chairperson to the Committee. A representative of the U.S. Department of Education and the U.S. Department of Commerce will be invited to serve as non-voting members of the Committee ex-officio. The Assistant Secretary for Employment and Training shall be a member ex-officio. The Administrator of the Office of Apprenticeship shall be the designated Federal official to the Committee.

Terms of members shall be 1 or 2-years, as designated by the Secretary, provided that all Committee members shall serve at the pleasure of the Secretary. Appointments to vacancies occurring during the terms of such appointments shall be for the un-expired portions of the terms. The expiration date for the 2-year terms shall coincide with the termination of the charter, and the 1-year terms shall expire one month prior to the termination of the charter.

FOR FURTHER INFORMATION CONTACT: Mr. Anthony Swoope, Administrator, Office of Apprenticeship, Employment and Training Administration, U.S. Department of Labor, Room N-5311, 200 Constitution Avenue, NW., Washington, DC 20210. Telephone: (202) 693-2796, (this is not a toll-free number).

Signed at Washington, DC, this 22nd day of February, 2007.
Emily Stover DeRocco,
Assistant Secretary for Employment and Training.

[FR Doc. E7-3465 Filed 2-27-07; 8:45 am]

BILLING CODE 4510-30-P